DEPARTMENT OF THE INTERIOR

Fish and Wildlife Service

[FWS-HQ-FAC-2023-N076; FX.IA167209TRG00-FF09W12000-223]

Theodore Roosevelt Genius Prize Advisory Council Meeting

AGENCY: Fish and Wildlife Service, Interior.

ACTION: Notice of meeting.

SUMMARY: The U.S. Fish and Wildlife Service gives notice of a public meeting of the Theodore Roosevelt Genius Prize Advisory Council (Council), in accordance with the Federal Advisory Committee Act.

DATES: The Council will meet Tuesday, November 14, 2023, through Thursday, November 16, 2023, from 9 a.m. to 4 p.m. (eastern time).

Registration: Registration is required. The deadline for registration is November 7, 2023.

Accessibility: The deadline for accessibility accommodation requests is November 7, 2023. Please see Accessibility Information, below.

ADDRESSES: The meeting will be held in Room 5160 of the Stewart Lee Udall Department of the Interior Building, 1849 C Street NW, Washington, DC 20240. Virtual participation will also be available via broadcast over the internet. To register, contact the Designated Federal Officer (see FOR FURTHER INFORMATION CONTACT) or visit the Council's website at https://www.fws.gov/program/theodore-roosevelt-genius-prize-advisory-council.

FOR FURTHER INFORMATION CONTACT: Stephanie Rickabaugh, Designated Federal Officer, by email at Stephanie_Rickabaugh@fws.gov, or by telephone at (571) 421-6758. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Theodore Roosevelt Genius Prize Advisory Council (Council) was established by the John D. Dingell, Jr., Conservation, Management, and Recreation Act (Pub. L. 116-9, as amended by the America's Conservation Enhancement Act (Pub. L. 116-188)); and authorized by the Stevenson-Wydler Technology Innovation Act of 1980 (15 U.S.C. 3719). The Council's purpose is to advise the Secretary of the Interior regarding any opportunities for technological innovation in six focus areas: preventing wildlife poaching and trafficking, promoting wildlife conservation, managing invasive species, protecting endangered species, non-lethally managing human-wildlife conflict, and reducing human-predator conflict.

This meeting is open to the public. The meeting agenda will include presentations from the 2023 Theodore Roosevelt Genius Prize winners, possible reports from subcommittees, and other business. The Council will also hear public comment if members of the public request to comment. The agenda and other related meeting information will be posted on the Council's website at https://www.fws.gov/program/theodore-roosevelt-genius-prize-advisory-council.

Public Input

If you wish to provide oral public comment or provide a written comment for the Council to consider, contact the Council's Designated Federal Officer (see FOR FURTHER INFORMATION CONTACT) no later than Tuesday, November 7, 2023.

Depending on the number of people who want to comment and the time available, the amount of time for individual oral comments may be limited. Interested parties should contact the Designated Federal Officer, in writing (see FOR FURTHER INFORMATION CONTACT), for placement on the public speaker list for this meeting. Requests to address the Council during the meeting will be accommodated in the order the requests are received. Registered speakers who wish to expand upon their oral statements, or those who had wished to speak but could not be accommodated on the agenda, may submit written statements to the Designated Federal Officer up to 30 days following the meeting.

Accessibility Information

Please make requests in advance for sign language interpreter services, assistive listening devices, or other reasonable accommodations. Please contact the Designated Federal Officer (see FOR FURTHER INFORMATION CONTACT) no later than November 7, 2023, to give the U.S. Fish and Wildlife Service sufficient time to process your request. All reasonable accommodation requests are managed on a case-by-case basis.

Public Disclosure

Before including your address, phone number, email address, or other personal identifying information in your comment, you should be aware that your entire comment—including your personal identifying information—may be made publicly available at any time. While you can ask us in your comment to withhold your personal identifying information from public review, we cannot guarantee that we will be able to do so.

(Authority: 5 U.S.C. Ch. 10)

Paul Rauch,
Assistant Director, Wildlife and Sport Fish Restoration, U.S. Fish and Wildlife Service.

[FR Doc. 2023-22381 Filed 10-6-23; 8:45 am]

BILLING CODE 4333-15-P